DEPARTMENT OF EDUCATION

Applications for New Awards; Educational Technology, Media, and Materials Program for Individuals with Disabilities—Center on Technology and Disability

AGENCY: Office of Special Education and Rehabilitative Services, Department of Education.

ACTION: Notice.

Overview Information: Educational Technology, Media, and Materials Program for Individuals with Disabilities—Center on Technology and Disability.

Notice inviting applications for new awards for fiscal year (FY) 2013.

Catalog of Federal Domestic Assistance (CFDA) Number: 84.327F.

DATES: Applications Available: July 1, 2013.

Deadline for Transmittal of Applications: August 15, 2013.

Full Text of Announcement

I. Funding Opportunity Description

Purpose of Program: The purpose of the Educational Technology, Media, and Materials for Individuals with Disabilities Program ¹ is to: (1) Improve results for children with disabilities by promoting the development, demonstration, and use of technology; (2) support educational media services activities designed to be of educational value in the classroom for children with disabilities; (3) provide support for captioning and video description that is appropriate for use in the classroom; and (4) provide accessible educational materials to children with disabilities in a timely manner.

¹ This program was formerly called “Technology and Media Services for Individuals with Disabilities.” The Department has changed the name to “Educational Technology, Media, and Materials for Individuals with Disabilities,” and updated the purposes of the program to more clearly convey that the program includes accessible educational materials. The program's activities and statutory authorization (20 U.S.C. 1474) remain unchanged.

Priority: In accordance with 34 CFR 75.105(b)(2)(v), this priority is from allowable activities specified in the statute (see sections 674(b)(1), 674(b)(2)(A), and 681(d) of the Individuals with Disabilities Education Act (IDEA) (20 U.S.C. 1400 et seq.)).

Absolute Priority: For FY 2013, this priority is an absolute priority. Under 34 CFR 75.105(c)(3), we consider only applications that meet this priority.

This priority is:

Educational Technology, Media, and Materials for Individuals with Disabilities—Center on Technology and Disability

Background: The purpose of this priority is to fund a cooperative agreement to support the establishment and operation of a Center on Technology and Disability (Center). The Center will increase the capacity ² of families and providers ³ to advocate for, acquire, and implement effective assistive technology (AT) ⁴ and instructional technology (IT) ⁵ to help infants, toddlers, children, and youth with disabilities (collectively, “children with disabilities”) participate fully in daily routines in their natural environments, have increased access to the general education curriculum, improve their functional outcomes and educational results, and meet college- and career-ready standards.

² “Capacity” means possessing essential knowledge, skills, and competencies to act effectively.

³ “Providers” denotes teachers, therapists, paraprofessionals, and other professionals providing services to children with disabilities under Parts B and C of IDEA. The term includes general educators serving children in inclusive settings.

⁴ Section 602 of IDEA defines an “assistive technology device” as “any item, piece of equipment, or product system, whether acquired commercially off the shelf, modified or customized, that is used to increase, maintain, or improve the functional capabilities of a child with a disability;” and an “assistive technology service” as “any service that directly assists a child with a disability in the selection, acquisition, or use of an assistive technology device.” For purposes of this priority, “AT” refers to any assistive technology device or assistive technology service.

⁵ IDEA does not provide a definition for IT, but for the purposes of this priority, “IT” is defined as technology processes and resources that facilitate learning and improve student performance for all students.

The Center will achieve these results by: (1) Compiling and disseminating accurate and current information on evidence-based AT and IT for families and providers in formats that are usable and accessible and that address the needs of diverse families and providers; (2) providing technical assistance (TA) to State educational agencies (SEAs) to enable SEAs to effectively increase the capacity of their local educational agencies (LEAs) to support families and providers in acquiring and implementing appropriate AT and IT; (3) providing TA to other projects funded by the Office of Special Education Programs (OSEP) to enable these projects to more effectively train families and providers on how to advocate for, acquire, and implement AT and IT for children with disabilities; and (4) providing TA to personnel development projects funded by OSEP to enable them to better prepare providers on effective AT and IT use by children with disabilities.

Almost 30 years of research and experience have demonstrated that supporting the development and use of AT and IT to maximize accessibility for children with disabilities can enhance the education and development of children with disabilities (section 601(c)(5)(H) of IDEA). With the increased use of appropriate AT and IT, more children with disabilities will to the maximum extent possible participate fully in daily routines in their natural environments, have access to the general education curriculum, be prepared to meet college- and career-ready standards, and lead productive and independent adult lives.

Providers play a key role in ensuring that AT and IT are used effectively by children with disabilities. However, research shows that these providers often lack knowledge about AT and IT; and, furthermore, this lack of knowledge has been identified as a critical barrier to effective technology use by children with disabilities (Smith & Robinson, 2003; Lee & Vega, 2005; Bausch, Ault, Evmenova, & Behrmann, 2008; Zhou, Parker, Smith, & Griffin-Shirley, 2011; U.S. Department of Education, 2010). Families also often lack knowledge of effective AT and IT, and how they can support their children's use of AT and IT. Informed parents actively involved in their children's development and education contribute significantly to positive educational outcomes (Caspe & Lopez, 2006). Studies suggest that parents of children with disabilities want to be involved in planning AT and IT for their children (Long, Huang, Woodbridge, Woolverton, & Minkel, 2003; Parette & McMahan, 2002; Lee & Templeton, 2008) and that a lack of family involvement may lead to misuse and disuse of AT and IT (Alper & Raharinirina, 2006; Zabala & Carl, 2005).

To increase their knowledge of effective, evidence-based AT and IT and to actively support children's use of AT and IT, both families and providers need ongoing, reliable, accurate, and current information (Marino, Marino, & Shaw, 2006). The information must help families and providers make sense of the rapid proliferation of new technologies, products, and approaches developed for all users and specifically for children with disabilities. The information must also help families and providers navigate the growing number of sources of information about AT and IT, including projects and clearinghouses supported by the Department of Education (Department).⁶ Lastly, information about AT and IT must be tailored to the specific technologies, audiences, and environments in which the technologies will be used and must also promote the adoption and use of AT and IT (Hazen, Wu, Sankar, & Jones-Farmer, 2011). The Center will provide accurate and current information on evidence-based AT and IT for providers and families. The Center will tailor this information to the particular needs of providers and families.

⁶ Examples of Department projects and clearinghouses include, but are not limited to, the following: (1) Projects partially focused on AT and IT such as the What Works Clearinghouse, the Doing What Works Web site, Comprehensive Centers, Regional Resource Centers, Parent Training and Information Centers (PTIs), and Community Parent Resource Centers (CPRCs); and (2) projects exclusively focused on AT and IT such as the Family Center on Technology and Disability, Center for Implementing Technology in Education (CITEd), AbleData, [AT] Connects, National Center on Accessible Instructional Materials (AIM Center), the Center on Technology Implementation, Tots `n Tech, Stepping-up to Technology Implementation, and Steppingstones of Technology Innovation.

Knowledge alone, however, is not enough to build capacity and increase the effective use of AT and IT. The Center will also develop a comprehensive approach to providing TA that uses strategies built on the most current evidence base for effective AT and IT use. These strategies will increase the capacity of families and providers to advocate for, acquire, and implement effective AT and IT for children with disabilities to help them participate fully in daily routines in their natural environments, increase their access to the general education curriculum, improve their functional outcomes and educational results, and meet college- and career-ready standards. These strategies are:

First, the Center will build support for scaling up effective practices in LEAs and individual schools through the provision of targeted TA ⁷ to SEAs. A survey of SEAs on their efforts to support LEAs in the provision of education-related AT revealed significant variability among States (Sopko, 2008). Most States provide general information and personnel development regarding AT, while few States provide specific TA on AT and IT. The Center will work with SEAs to effectively increase the capacity of LEAs to provide services to families and providers that increase their skills in advocating for, acquiring, and implementing effective AT and IT for children with disabilities.

⁷ As used in this priority, “targeted TA” means TA service based on needs common to multiple recipients and not extensively individualized. A relationship is established between the TA recipient and one or more TA center staff. This category of TA includes one-time, labor-intensive events, such as facilitating strategic planning or hosting regional or national meetings. It can also include episodic, less labor-intensive events that extend over a period of time, such as facilitating a series of conference calls on single or multiple topics that are designed around the needs of the recipients. Facilitating communities of practice can also be considered targeted, specialized TA. The following Web site provides more information on levels of TA: www.tadnet.org.

Second, the Center will provide targeted TA to OSEP-funded projects, including Parent Training and Information Centers (PTIs) and Community Parent Resource Centers (CPRCs), to increase the projects' capacity to provide effective training on AT and IT to families, as well as collaborate with providers to foster the effective implementation of AT and IT (Edyburn, 2004).

And third, the Center will provide targeted TA to personnel development projects funded under the Personnel Preparation program authorized under section 662 of IDEA to increase their capacity to prepare providers on the effective use of AT and IT with children with disabilities. One of the objectives of the Personnel Preparation program is to ensure that projects provide training to early intervention and special education personnel, including administrators, on the use of new technologies (section 662(a)(6)(A) of IDEA). Personnel development projects also need to improve the AT and IT content they provide in order to reduce providers' knowledge gaps (Chesley & Jordan, 2012; Manning & Carpenter, 2008). The Center will provide targeted TA to personnel development projects to better enable them to prepare providers on the effective use of AT and IT with children with disabilities.

Priority:

The purpose of this priority is to fund a cooperative agreement to support the establishment and operation of a Center on Technology and Disability. The Center will increase the capacity of families and providers to advocate for, acquire, and implement effective AT and IT to help children with disabilities participate fully in daily routines in their natural environments, have increased access to the general education curriculum, improve their functional outcomes and educational results, and meet college- and career-ready standards.

The Center must provide, at a minimum, the necessary TA to meet the following expected outcomes:

(a) Families and providers will have access to accurate and current information on evidence-based AT and IT for children with disabilities in formats that are relevant to their needs so that they can (1) Advocate for appropriate AT and IT; (2) participate effectively in planning, acquiring, and implementing AT and IT; and (3) make informed decisions about how resources should be spent.

(b) SEAs will increase their capacity to provide TA to LEAs so that LEAs can more effectively support families and providers in the acquisition and implementation of appropriate AT and IT in order to improve educational results and functional outcomes for children with disabilities.

(c) Other OSEP-funded projects, including PTIs and CPRCs, will increase their capacity to train families and providers so that they can effectively advocate for, acquire, and implement AT and IT for children with disabilities.

(d) OSEP-funded personnel development projects will increase their capacity to prepare providers to help children with disabilities use AT and IT more effectively.

To be considered for funding under this absolute priority, applicants must meet the application, programmatic, and administrative requirements specified in this priority.

The requirements of this priority are as follows:

(a) Demonstrate, in the narrative section of the application under “Significance of the Project,” how the project—

(1) Addresses families' and providers' need for useful, relevant, and current information and training on evidence-based AT and IT for children with disabilities. To address this requirement the applicant must—

(i) Demonstrate knowledge of the following:

(A) Evidence-based research and effective practices on AT and IT use by children with disabilities and providers;

(B) Information and training currently available on AT and IT through various sources;

(C) Federal and State TA currently available to LEAs on AT and IT; and

(ii) Identify gaps and weaknesses in the information and training on AT and IT that is currently available to SEAs, LEAs, OSEP-funded projects, families, and providers;

(2) Increases families' and providers' understanding of effective strategies to advocate for, acquire, and use appropriate AT and IT for children with disabilities. To address this requirement the applicant must—

(i) Demonstrate knowledge of best practices in providing information to families and providers;

(ii) Identify dissemination strategies that will enable more families and providers to efficiently acquire reliable and up-to-date information on AT and IT, as well as use the acquired information effectively, including families and providers who are underserved or have limited access to information; and

(iii) Identify effective strategies for providing TA to SEAs, LEAs, OSEP-funded projects, families, and providers; and

(3) Increases families' and providers' capacity to advocate for, acquire, and use appropriate AT and IT for children with disabilities.

(b) Demonstrate, in the narrative section of the application under “Quality of the Project Services,” how the project will—

(1) Use a conceptual framework and project logic model (see paragraph (f)(1)) to guide the development of project plans and activities describing any underlying concepts, assumptions, expectations, beliefs, or theories, as well as the presumed relationship or linkages among these variables, and any empirical support for this framework;

(2) Collect and evaluate information on AT and IT using consistent evidence standards, such as those used by the What Works Clearinghouse (see http://ies.ed.gov/ncee/wwc). The information on AT and IT must—

(i) Address a variety of topics, including, but not limited to: emerging technologies; new and available AT and IT products; universally designed alternatives to traditional AT and IT; resources to help families and providers acquire AT and IT; and best practices in the selection, implementation, and use of AT and IT to benefit children with disabilities; and

(ii) Include current and archival information from other projects funded by the Department, such as grants funded under the Educational Technology, Media, and Materials for Individuals with Disabilities Program;

(3) Create new training and information materials for families and providers that—

(i) Synthesize reliable information about evidence-based AT and IT, including advancements in AT and IT;

(ii) Are accessible, usable, and easy for families and others to understand;

(iii) Are available in other languages and address the linguistic needs of English learners (ELs) with disabilities;

(iv) Respond to the changing needs of SEAs, LEAs, OSEP-funded projects, families, and providers; and

(v) Increase parents' and providers' knowledge of AT, IT, and effective practices in the use of technology to improve functional outcomes and educational results for children with disabilities;

(4) Provide universal TA,⁸ using information collected in response to paragraph (b)(2), on effective AT and IT for children with disabilities, including how to acquire, use, and implement that AT and IT, that—

⁸ As used in this priority, “universal TA” means TA and information provided to independent users through their own initiative, resulting in minimal interaction with TA center staff and including one-time, invited, or offered conference presentations by TA center staff. This category of TA also includes information or products, such as newsletters, guidebooks, or research syntheses, downloaded from the TA center's Web site by independent users. Brief communications by TA center staff with recipients, either by telephone or email, are also considered universal, general TA. The following Web site provides more information on levels of TA: www.tadnet.org.

(i) Meets the needs of multiple audiences, including, but not limited to: Families, families with limited English proficiency, parent service organizations, providers, administrators, professional organizations, SEAs, LEAs, lead agencies, professional training programs, AT and IT developers, vendors, and researchers;

(ii) Includes a variety of formats that are appropriate to the audience and to the nature of the information, such as Web sites, newsletters, guidebooks, research syntheses, conference presentations, and published articles, among others;

(iii) Uses various dissemination methods (in-person, remote, and Web-based, among others) to reach as many families and providers as possible;

(iv) Uses best practices for training and providing TA to adult learners; and

(v) Uses technology to increase the efficiency and effectiveness of the TA provided;

(5) Provide targeted TA to SEAs that—

(i) Increases SEAs' capacity to help LEAs to support families and providers in the acquisition and implementation of appropriate AT and IT by children with disabilities;

(ii) Includes a variety of formats, such as webinars, workshops, training modules, meetings, communities of practice, and wikis;

(iii) Uses various dissemination methods (in-person, remote, and Web-based, among others) to reach as many families and providers as possible;

(iv) Uses best practices for training and providing TA to adult learners;

(v) Uses technology to increase the efficiency and effectiveness of the TA provided; and

(vi) Makes use of existing knowledge and expertise within SEAs;

(6) Provide targeted TA to OSEP-funded personnel development projects, PTIs, CPRCs, and other projects that—

(i) Increases the projects' knowledge of AT and IT and their capacity to more effectively train families and providers on how to advocate for, acquire, and implement effective AT and IT for children with disabilities;

(ii) Uses a variety of formats, such as webinars, workshops, training modules, meetings, communities of practice, and wikis, among others;

(iii) Uses various dissemination methods (in-person, remote, and Web-based, among others) to reach as many families and providers as possible;

(iv) Uses best practices for training and providing TA to adult learners;

(v) Uses technology to increase the efficiency and effectiveness of the TA provided; and

(vi) Makes use of existing knowledge and expertise within personnel development projects, parent training and information centers, deaf-blind projects, TA centers, and State personnel development projects, among others;

(7) Collaborate with other projects and initiatives that can contribute to meeting the Center's outcomes, including, but not limited to: AbleData, [AT] Connects, State projects supported by the AT Act, and AT and IT vendors and researchers;

(8) Disseminate information about the Center's products and services in order to promote their use to improve outcomes for children with disabilities; and

(9) Consult with a group of persons, including, but not limited to: Representatives from OSEP-funded personnel development and other projects; SEAs, LEAs, and Part C lead agencies; providers and provider associations; families; people with disabilities; and researchers, as appropriate; on the activities and outcomes of the Center; and solicit programmatic support and advice from various participants in the group, as appropriate. The Center must identify the members of this group to OSEP, for its approval, within eight weeks following receipt of the award.

(c) Demonstrate, in the narrative section of the application under “Quality of the Evaluation Plan,” how—

(1) The applicant will evaluate the effectiveness of the proposed project by undertaking a formative evaluation and a summative evaluation, including a description of how the applicant will measure the outcomes proposed in the logic model (see paragraph (f)(1)). The description must include—

(i) Evaluation methodologies, including proposed instruments, data collection methods, evaluation questions, and possible analyses;

(ii) Proposed standards or targets for determining effectiveness; and

(iii) A proposed third-party evaluator to carry out the summative evaluation;

(2) The applicant will use the results of the formative evaluation to provide performance feedback for examining the effectiveness of project implementation strategies and progress toward achieving intended outcomes; and

(3) Formative evaluation activities during the project period will complement and inform the summative evaluation. The final summative evaluation will be developed in consultation with the third-party evaluator and the OSEP project officer.

(d) Demonstrate, in the narrative section of the application under “Adequacy of Project Resources,” how—

(1) The proposed personnel, consultants, and contractors are highly qualified, experienced, and committed to carrying out the proposed activities and meeting the outcomes identified in the project logic model (see paragraph (f)(1));

(2) The qualifications of the members of the group referred to in paragraph (b)(9) are relevant to the proposed activities and outcomes;

(3) The applicant will encourage applications for employment from persons who are members of groups that have traditionally been underrepresented based on race, color, national origin, language, linguistic background, gender, age, or disability, as appropriate; and

(4) The applicant and any key partners will ensure that they have adequate resources to carry out the proposed activities.

(e) Demonstrate, in the narrative section of the application under “Quality of the Management Plan,” how—

(1) The proposed management plan will ensure that the project's outcomes, identified in the project logic model (see paragraph (f)(1)), will be achieved on time and within budget;

(2) The time of key personnel, consultants, and contractors will be sufficiently allocated to the project;

(3) The proposed management plan will ensure that the products and services provided are of high quality; and

(4) The proposed project will benefit from a diversity of perspectives, including families, researchers, personnel development projects, parent training and information centers, SEAs and lead agencies, and other OSEP-funded projects, among others.

(f) Address the following application requirements as directed. The applicant must—

(1) Include, in Appendix A, a logic model that depicts, at a minimum, the goals, activities, outputs, and outcomes of the proposed project. A logic model communicates how a project will achieve its outcomes and provides a framework for both the formative and summative evaluations of the project;

Note: The following Web sites provide more information on logic models: www.researchutilization.org/matrix/logicmodel_resource3c.html and www.tadnet.org/pages/589;

(2) Include, in Appendix A, a conceptual framework for the project;

(3) Include, in Appendix A, person-loading charts and timelines to illustrate the management plan described in the narrative;

(4) Ensure that the budget includes attendance at all of the following events:

(i) A one and one-half day kick-off meeting to be held in Washington, DC, following receipt of the award, and an annual planning meeting held in Washington, DC, with the OSEP project officer and other relevant staff during each subsequent year of the project period.

Note: Within 30 days of receipt of the award, a post-award teleconference must be held between the OSEP project officer and the grantee's project director or other authorized representative.

(ii) A three-day project directors' conference in Washington, DC, during each year of the project period.

(iii) One trip annually to attend Department briefings, Department-sponsored conferences, and other meetings, as requested by OSEP;

(5) Ensure that the budget includes—

(i) A line item for an annual set-aside of five percent of the grant amount to support emerging needs that are consistent with the proposed project's activities, as those needs are identified in consultation with OSEP;

Note: With approval from the OSEP project officer, the Center should reallocate any remaining funds from this annual set-aside no later than the end of the third quarter of each budget period.

(ii) A line item for a summative evaluation to be conducted by an independent third party; and

(6) Ensure that the project maintains a Web site that meets government or industry-recognized standards for accessibility.

Fourth and Fifth Years of the Project:

In deciding whether to continue funding the Center for the fourth and fifth years, the Secretary will consider the requirements of 34 CFR 75.253(a), as well as—

(a) The recommendation of a review team consisting of experts selected by the Secretary. This review will be conducted during a one-day intensive meeting in Washington, DC, that will be held during the last half of the second year of the project period. The Center must budget for travel expenses associated with this one-day intensive review;

(b) The timeliness and effectiveness with which all requirements of the negotiated cooperative agreement have been or are being met by the Center; and

(c) The quality, relevance, and usefulness of the Center's activities and products and the degree to which the Center's activities and products increase families' and providers' capacity to advocate for, acquire, and implement effective AT and IT for children with disabilities and thereby improve educational and developmental outcomes for children with disabilities.

References:

Alper, S., & Raharinirina, S. (2006). Assistive technology for individuals with disabilities: A review and synthesis of the literature. Journal of Special Education Technology, 21(2), 47-64.

Bausch, M. E., Ault, M. J., Evmenova, A. S., & Behrmann, M. M. (2008). Going beyond AT devices: Are AT services being considered? Journal of Special Education Technology, 23(2), 1-16.

Caspe, M., & Lopez, M. E. (2006). Lessons from family-strengthening interventions: Learning from evidence-based practice. Cambridge, MA: Harvard Family Research Project. Retrieved from www.gse.harvard.edu/hfrp/projects/fine/resources/research/lessons.html.

Chesley, G. M., & Jordan, J. (2012). What's missing from teacher prep. Educational Leadership, 69(8), 41-45.

Edyburn, D. L. (2004). Rethinking assistive technology. Special Education Technology Practice, 5(4), 16-23.

Hazen, B. T., Wu, Y., Sankar, C. S., & Jones-Farmer, L. (2011). A proposed framework for educational innovation dissemination. Journal Of Educational Technology Systems, 40(3), 301-321.

Lee, H., & Templeton, R. (2008). Ensuring equal access to Technology: Providing assistive technology for students with disabilities. Theory Into Practice, 47(3), 212-219. doi: 10.1080/00405840802153874.

Lee, Y., & Vega, L. A. (2005). Perceived knowledge, attitudes, and challenges of AT use in special education. Journal of Special Education Technology, 20(2), 60-62.

Long, T., Huang, L., Woodbridge, M., Woolverton, M., & Minkel, J. (2003). Integrating assistive technology into an outcome-driven model of service delivery. Infants and Young Children, 16, 272-283.

Manning, J. B., & Carpenter, L. B. (2008). Assistive Technology WebQuest: Improving learning for preservice teachers. TechTrends, 52(6), 47-52.

Marino, M. T., Marino, E. C., & Shaw, S. F. (2006). Making informed assistive technology decisions for students with high incidence disabilities. Teaching Exceptional Children, 38(6), 18-25.

Parette, P., & McMahan, G. A. (2002). What should we expect of assistive technology? Being sensitive to family goals. Teaching Exceptional Children, 35, 56-61.

Smith, S. J., & Robinson, S. (2003). Technology integration through collaborative cohorts. Remedial & Special Education, 24(3), 154-159.

Sopko, K. M. (2008). State support of education-related assistive technology (inForum Brief Policy Analysis). Project Forum at NASDSE. Retrieved from www.projectforum.org.

U.S. Department of Education, Office of Educational Technology. (2010). Transforming American education: Learning powered by technology. Retrieved from www.ed.gov/sites/default/files/netp2010.pdf.

Zabala, J. S., & Carl, D. F. (2005). Quality indicators for assistive technology services in schools. In D. L. Edyburn, K. Higgins, & R. Boone (Eds.), The handbook of special education technology research and practice (pp. 179-207). Whitefish Bay, WI: Knowledge by Design, Inc.

Zhou, L., Parker, A. T., Smith, D. W., & Griffin-Shirley, N. (2011). Assistive technology for students with visual impairments: Challenges and needs in teachers' preparation programs and practice. Journal of Visual Impairment & Blindness, 105(4), 197-210.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1474 and 1481.

Applicable Regulations: (a) The Education Department General Administrative Regulations (EDGAR) in 34 CFR parts 74, 75, 77, 79, 80, 81, 82, 84, 86, 97, 98, and 99. (b) The Education Department debarment and suspension regulations in 2 CFR part 3485.

Note: The regulations in 34 CFR part 79 apply to all applicants except federally recognized Indian tribes.

Note: The regulations in 34 CFR part 86 apply to institutions of higher education (IHEs) only.

II. Award Information

Type of Award: Cooperative agreement.

Estimated Available Funds: $1,435,500.

Contingent upon the availability of funds and the quality of applications, we may make additional awards in FY 2014 from the list of unfunded applicants from this competition.

Maximum Award: We will reject any application that proposes a budget exceeding $1,435,500 for a single budget period of 12 months. The Assistant Secretary for Special Education and Rehabilitative Services may change the maximum amount through a notice published in the Federal Register.

Estimated Number of Awards: 1.

Note: The Department is not bound by any estimates in this notice.

Project Period: Up to 60 months.

III. Eligibility Information

Eligible Applicants: SEAs; LEAs, including public charter schools that are considered LEAs under State law; IHEs; other public agencies; private nonprofit organizations; outlying areas; freely associated States; Indian tribes or tribal organizations; and for-profit organizations.

2. Cost Sharing or Matching: This competition does not require cost sharing or matching.

3. Other:

(a) General Requirements. The projects funded under this competition must make positive efforts to employ, and advance in employment, qualified individuals with disabilities (see section 606 of IDEA).

(b) Applicants and grant recipients funded under this competition must involve individuals with disabilities or parents of individuals with disabilities ages birth through 26 in planning, implementing, and evaluating the project (see section 682(a)(1)(A) of IDEA).

IV. Application and Submission Information

1. Address to Request Application Package: Education Publications Center (ED Pubs), U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this competition as follows: CFDA number 84.327F.

Individuals with disabilities can obtain a copy of the application package in an accessible format (e.g., braille, large print, audiotape, or compact disc) by contacting the team listed under Accessible Format in section VIII of this notice.

2. Content and Form of Application Submission: Requirements concerning the content of an application, together with the forms you must submit, are in the application package for this competition. Page Limit: The application narrative (Part III of the application) is where you, the applicant, address the selection criteria that reviewers use to evaluate your application. You must limit Part III to the equivalent of no more than 50 pages, using the following standards:

• A “page” is 8.5″ x 11″, on one side only, with 1” margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of the application narrative section (Part III).

We will reject your application if you exceed the page limit; or if you apply other standards and exceed the equivalent of the page limit.

3. Submission Dates and Times:

Applications Available: July 1, 2013.

Deadline for Transmittal of Applications: August 15, 2013.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This competition is subject to Executive Order 12372 and the regulations in 34 CFR part 79. However, under 34 CFR 79.8(a), we waive intergovernmental review in order to make an award by the end of FY 2013.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The SAM registration process may take seven or more business days to complete. If you are currently registered with the SAM, you may not need to make any changes. However, please make certain that the TIN associated with your DUNS number is correct. Also note that you will need to update your registration annually. This may take three or more business days to complete. Information about SAM is available at SAM.gov.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this competition must be submitted electronically unless you qualify for an exception to this requirement in accordance with the instructions in this section.

a. Electronic Submission of Applications.

Applications for grants under the Center on Technology and Disability competition, CFDA number 84.327F, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Center on Technology and Disability competition at www.Grants.gov. You must search for the downloadable application package for this competition by the CFDA number. Do not include the CFDA number's alpha suffix in your search (e.g., search for 84.327, not 84.327F).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material. Additional, detailed information on how to attach files is in the application instructions.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Carmen Sanchez, U.S. Department of Education, 400 Maryland Avenue SW., Room 4057, Potomac Center Plaza (PCP), Washington, DC 20202-2600. FAX: (202) 245-6595.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.327F) LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.327F) 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The Standing Panel requirements under section 682(b) of IDEA also have placed additional constraints on the availability of reviewers. Therefore, the Department has determined that, for some discretionary grant competitions, applications may be separated into two or more groups and ranked and selected for funding within specific groups. This procedure will make it easier for the Department to find peer reviewers, by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Educational Technology, Media, and Materials for Individuals with Disabilities program. For purposes of this priority, the Center will use these measures, which focus on the extent to which projects provide high-quality products and services, the relevance of project products and services to educational and early intervention policy and practice, and the use of products and services to improve educational and early intervention policy and practice. Grantees will be required to report information on their project's performance in annual reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Carmen Sanchez, U.S. Department of Education, 400 Maryland Avenue SW., Room 4057, PCP, Washington, DC 20202-2600. Telephone: (202) 245-6595.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 26, 2013.
Michael K. Yudin,
Delegated the authority to perform the functions and duties of the Assistant Secretary for Special Education and Rehabilitative Services.

[FR Doc. 2013-15712 Filed 6-28-13; 8:45 am]

BILLING CODE 4000-01-P